DEPARTMENT OF TRANSPORTATION

Coast Guard

33 CFR Part 165

[CGD05-02-041]

RIN 2115-AA97

Security Zone; Georgetown Channel, Potomac River, Washington, DC

AGENCY: Coast Guard, DOT.

ACTION: Temporary final rule.

SUMMARY: The Coast Guard is establishing a temporary security zone. This action is necessary to provide for safety and security of an anticipated 400,000 visitors during the annual July 4th celebration on the National Mall in Washington, DC. The security zone will prevent access to unauthorized persons who may attempt to enter the secure area via the waterfront seawall, and safeguard spectators and participants.

DATES: This rule is effective from 6 a.m to 11 p.m. local time on July 4, 2002.

ADDRESSES: Comments and material received from the public, as well as documents indicated in this preamble as being available in the docket, are part of docket CGD05-02-041 and are available for inspection or copying at Commander, Coast Guard Activities Baltimore, 2401 Hawkins Point Road, Baltimore, Maryland 21226-1791, between 9:30 a.m. and 2 p.m., Monday through Friday, except Federal holidays.

FOR FURTHER INFORMATION CONTACT: Lieutenant Charles A. Roskam II, Port Safety and Security, Coast Guard Activities Baltimore, telephone number (410) 576-2676.

SUPPLEMENTARY INFORMATION:

Regulatory Information

We did not publish a notice of proposed rulemaking (NPRM) for this regulation. Under 5 U.S.C. 553(b)(B), the Coast Guard finds that good cause exists for not publishing an NPRM. Under 5 U.S.C. 553(d)(3), the Coast Guard finds that good cause exists for making this rule effective less than 30 days after publication in the Federal Register. This temporary security zone of short duration is necessary to provide for the security of the United States. The security zone will prevent access to unauthorized persons who may attempt to enter the secure area of this nationally significant event via the waterfront seawall, and safeguard the United States and United States' interests during this event. To delay the effective date would be impracticable and contrary to the public interest.

Background and Purpose

On July 4, 2002, an anticipated 400,000 visitors will attend the annual July 4th celebration on the National Mall in Washington, DC. This security zone is necessary to prevent access to unauthorized persons who may attempt to enter the secure area of this nationally significant event via the waterfront seawall, and to provide for the security of the spectators and participants.

Discussion of Rule

This rule, for security reasons, limits access to the regulated area to those vessels authorized to enter and operate within the security zone. The Captain of the Port or his designated representative may authorize access to the security zone. In addition, the Coast Guard will make notifications via maritime advisories.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

This temporary rule will be in effect for a limited duration. The Captain of the Port or his designated representative may authorize access to the security zone. In addition, the Coast Guard will make notifications via maritime advisories.

Small Entities

Under the regulatory Flexibility Act (5 U.S.C. 601-612), we have considered whether this rule would have a significant economic impact on a substantial number of small entities. The term “small entities” comprises small business, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners and operators of vessels intending to operate or anchor in the Georgetown Channel, Potomac River, from the George Mason Memorial Bridge upstream to the Arlington Memorial Bridge from 6 a.m. to 11 p.m. on July 4, 2002.

This security zone will not have a significant economic impact on a substantial number of small entities for the following reasons. This rule will be in effect for less than twenty four hours. Although the security zone will apply to the entire width of the river, traffic will be allowed to pass through the zone with the permission of the Coast Guard Captain of the Port or his designated representative. Additionally, the Coast Guard will make notifications via marine advisories so that mariners can adjust their plans accordingly.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact the address listed under ADDRESSES.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Security Risks. This rule is not an economically significant rule and does not create an environmental risk to health or risk to security that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and preliminarily concluded that under figure 2-1, paragraph (34)(g), of Commandant Instruction M16475.lD, this rule is categorically excluded from further environmental documentation. This is a security zone less than one week in duration. The environmental analysis and “Categorical Exclusion Determination” will be prepared and submitted after establishment of this temporary security zone. The Categorical Exclusion Determination will be made available in the docket for inspection and copying where indicated under ADDRESSES.

List of Subjects in 33 CFR Part 165

Harbors, Marine security, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6 and 160.5; 49 CFR 1.46.

2. Add § 165.TD05-02-041 to read as follows:

§ 165.TD05-02-041 Security zone; Georgetown Channel, Potomac River, Washington, DC.

(a) Location. The following area is a security zone: the waters of the Georgetown channel of the Potomac River, within an area 200 feet from the river's Washington, DC shore, from the George Mason Memorial Bridge upstream to the Arlington Memorial Bridge, including the waters of the Georgetown Channel Tidal Basin.

(b) Captain of the Port. Captain of the Port means the Commanding Officer of Coast Guard Activities Baltimore, Baltimore, MD, or any Coast Guard commissioned, warrant, or petty officer who has been authorized to act on his behalf.

(c) Regulations. (1) All persons are required to comply with the general regulations governing security zones in 33 CFR 165.33.

(2) Persons or vessels requiring entry into or passage within the security zone must request authorization from the Captain of the Port or his designated representative by telephone at (410) 576-2693 or by radio on VHF-FM channel 16.

(3) The operator of any vessel within or in the immediate vicinity of this security zone shall:

(i) Stop the vessel immediately upon being directed to do so by the Captain of the Port or his designated representative, and

(ii) Proceed as directed by the Captain of the Port or his designated representative.

(d) Effective period. This section is effective from 6 a.m. to 11 p.m. local time on July 4, 2002.

Dated: June 19, 2002.
E.Q. Kahler,
Commander, U.S. Coast Guard, Acting Captain of the Port, Baltimore, Maryland.

[FR Doc. 02-16524 Filed 6-28-02; 8:45 am]

BILLING CODE 4910-15-P